DEPARTMENT OF HOMELAND SECURITY

Coast Guard

[Docket No. USCG-2019-0702]

Proposed Termination of U.S. Coast Guard Medium Frequency (MF) Broadcast of Navigational Telex (NAVTEX) and Shift to Satellite

ACTION: Notice and request for comments.

SUMMARY: The U.S. Coast Guard may cease broadcasting Navigational Telex (NAVTEX) over Medium Frequency (MF) after first ensuring the information contained in NAVTEX broadcasts is available via International Maritime Organization (IMO) recognized satellite services. This notice requests public comment on the possibility of terminating the MF NAVTEX broadcast.

DATES: Comments must be submitted to the online docket via http://www.regulations.gov, on or before November 12, 2019.

ADDRESSES: You may submit comments identified by docket number USCG-2019- 0702 using the Federal eRulemaking Portal at http://www.regulations.gov. See the “Public Participation and Request for Comments” portion of the SUPPLEMENTARY INFORMATION section for further instructions on submitting comments.

FOR FURTHER INFORMATION CONTACT: For information about this document, please call or email Derrick Croinex, Chief, Spectrum Management and Telecommunications, U.S. Coast Guard (Commandant CG-672); telephone: 202-475-3551; email: derrick.j.croinex@uscg.mil.

SUPPLEMENTARY INFORMATION:

Abbreviations

GMDSS Global Maritime Distress and Safety System

IMO International Maritime Organization

MF Medium Frequency

NAVTEX Navigational Telex

Public Participation and Request for Comments

We encourage you to submit comments (or related material) on the possible termination of the U.S. Coast Guard's broadcast of MF NAVTEX. We will consider all submissions received before the comment period closes. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

Discussion

Navigation Telex (NAVTEX) is an international automated service for radio broadcast delivery of navigational and meteorological warnings and forecasts, as well as urgent maritime safety information. NAVTEX provides a low-cost, automated means of receiving this information aboard ships at sea out to approximately 100 nautical miles off shore. NAVTEX is part of the Global Maritime Distress and Safety System (GMDSS) which has been incorporated into the Safety of Life at Sea (SOLAS) treaty to which the U.S. is a party. The U.S. Coast Guard operates this system nationwide. For more information on MF NAVTEX in the U.S., please see the USCG Navigation Center website at https://www.navcen.uscg.gov/?pageName=NAVTEX.

The U.S. Coast Guard is proposing to cease operating MF NAVTEX and, instead making this information available via IMO recognized satellite services in waters under U.S. responsibility. The current MF NAVTEX equipment is in dire need of replacement. The equipment is antiquated and essential replacement parts are difficult to find and expensive, placing overall operation of MF NATEX at risk. Any approved GMDSS satellite terminal will be able to receive this information. We would like comments on this proposal to make the NAVTEX information available over satellite.

We believe the transition from terrestrial broadcast to satellite will provide for more reliable delivery of NAVTEX information and allow better, more cost-effective products in the future. We also believe this change will have a low impact on the maritime public as satellite receivers have become more prevalent onboard vessels. However, we would like your comments on how you would be affected if we did provide the NAVTEX information via satellite, particularly if you use MF NAVTEX and do not currently have a GMDSS satellite terminal onboard your vessel. We would also like your comments on what types of Maritime Safety Information products you would like to see added in the future if we did provide the NAVTEX information via satellite.

Before terminating the broadcast, we will consider comments from the public. After considering any comments received, the Coast Guard will issue a notice in the Federal Register indicating how the matter will be resolved.

This notice is issued under the authority of 14 U.S.C. 93(a)(16) and 5 U.S.C. 552(a).

Dated: September 5, 2019.
Derrick J. Croinex,
Chief, Spectrum Management and Telecommunication.

[FR Doc. 2019-19675 Filed 9-10-19; 8:45 am]

BILLING CODE 9110-04-P